DEPARTMENT OF TRANSPORTATION

Federal Aviation Administration

14 CFR Part 71

[Docket No. FAA-2003—15360; Airspace Docket No. 03-ASO-7]

Amendment of Class E5 Airspace; Tuscaloosa, AL; Correction

AGENCY: Federal Aviation Administration (FAA), DOT.

ACTION: Correcting amendment.

SUMMARY: This document contains a correction to the final rule (FAA-2003-15360; 03-ASO-7), which was published in the Federal Register on June 16, 2003, (68 FR 35535), amending Class E5 airspace at Tuscaloosa, AL. This action changes the name of the Tuscaloosa Municipal Airport to the Tuscaloosa Regional Airport.

EFFECTIVE DATE: Effective 0901 UTC, September 4, 2003.

FOR FURTHER INFORMATION CONTACT: Walter R. Cochran, Manager, Airspace Branch, Air Traffic Division, Federal Aviation Administration, P.O. Box 20636, Atlanta, Georgia 30320; telephone (404) 305-5627.

SUPPLEMENTARY INFORMATION:

Background

Federal Register Document 03-15142, Docket No. FAA-2003-15360; Airspace Docket 03-ASO-7, published on June 16, 2003, (68 FR 35535), amends Class E5 airspace at Tuscaloosa, AL, changing the name of the Tuscaloosa VHF Omnidirectional Range/Tactical Air Navigation (VORTAC) to Crimson VORTAC. On July 15, 2003, the Tuscaloosa Municipal Airport name was changed to the Tuscaloosa Regional Airport. This action corrects the published docket.

Designations for Class E airspace areas designated as surface areas are published in Paragraph 6002 of FAA Order 7400.9K, dated August 30, 2002, and effective September 16, 2002, which is incorporated by reference in 14 CFR 71.1. The Class E airspace designation listed in this document will be published subsequently in the Order.

Need for Correction

As published, the final rule contains an error which incorrectly identifies the name of the airport. Accordingly, pursuant to the authority delegated to me, the legal description for the Class E5 airspace area at Tuscaloosa, AL, incorporated by reference at § 71.1, 14 CFR 71.1, and published in the Federal Register on June 16, 2003, (68 FR 35535), is corrected by making the following correcting amendment.

List of Subjects in 14 CFR Part 71

Airspace, Incorporation by reference, Navigation (air).

In consideration of the foregoing, the Federal Aviation Administration corrects the adopted amendment, 14 CFR part 71, by making the following correcting amendment:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g); 40103, 40113, 40120; E.O. 10854, 24 FR 9565, 3 CFR 1959-1963 Comp., p. 389.

§ 71.1 [Corrected]

2. The incorporation by reference in 14 CFR 71.1 of Federal Aviation Administration Order 7400.9K, Airspace Designations and Reporting Points, dated August 30, 2002, and effective September 16, 2002, is amended as follows:

Paragraph 6002 Class E airspace designated as surface areas.

* * * * *

ASO AL E5 Tuscaloosa, AL [Corrected]

Tuscaloosa Regional Airport, AL

(Lat. 33°13′14″ N., long. 87°36′41″ W.

CRIMSON VORTAC

(Lat. 33°15′32″ N., long. 87°32′13″ W)

That airspace extending upward from 700 feet above the surface within a 7-mile radius of Tuscaloosa Regional Airport and within 2.4 miles each side of Crimson VORTAC 058° radial, extending from the 7 mile radius to 7 miles northeast of the VORTAC.

* * * * *

Issued in College Park, Georgia, on July 18, 2003.
Walter R. Cochran,
Acting Manager, Air Traffic Division, Southern Region.

[FR Doc. 03-19156 Filed 7-25-03; 8:45 am]

BILLING CODE 4910-13-M